DEPARTMENT OF JUSTICE

Immigration and Naturalization Service

[INS No. 2064-00; AG Order No. 2301-2000]

RIN 1115-AE26

Extension of Designation of Nicaragua Under Temporary Protected Status Program

AGENCY: Immigration and Naturalization Service, Justice.

ACTION: Notice.

SUMMARY: This notice extends the Attorney General's designation of Nicaragua under the Temporary Protected Status (TPS) program until July 5, 2001. Eligible nationals of Nicaragua (or aliens having no nationality who last habitually resided in Nicaragua) may re-register for TPS and an extension of employment authorization. Re-registration is limited to persons who registered during the initial registration period, which ended on August 20, 1999, or who registered after that date under the late initial registration provision. Persons who are eligible for late initial registration may register for TPS during this extension.

EFFECTIVE DATES: The extension of the TPS designation for Nicaragua is effective July 6, 2000, and will remain in effect until July 5, 2001. The 30-day re-registration period begins May 11, 2000 and will remain in effect until June 12, 2000.

FOR FURTHER INFORMATION CONTACT: Michael Hardin, Residence and Status Services Branch, Adjudications, Immigration and Naturalization Service, Room 3214, 425 I Street, NW., Washington, DC 20536, telephone (202) 514-4754.

SUPPLEMENTARY INFORMATION:

What Authority Does the Attorney General Have To Extend the Designation of Nicaragua Under the TPS Program?

Section 244(b)(3)(A) of the Immigration and Nationality Act (Act) states that at least 60 days before the end of an extension or a designation, the Attorney General must review conditions in the designated foreign state. 8 U.S.C. 1254a(b)(3)(A). If the Attorney General determines that the foreign state continues to meet the conditions for designation, the period of designation is extended, pursuant to section 244(b)(3)(C) of the Act. 8 U.S.C. 1254a(b)(3)(C). Through such an extension, TPS is available only to persons who have been continuously physically present since January 5, 1999, and have continuously resided in the United States from December 30, 1998.

Why Did the Attorney General Decide To Extend the TPS Designation for Nicaragua?

On January 5, 1999, the Attorney General initially designated Nicaragua for TPS for a period of 18 months. 64 FR 526 (Jan. 5, 1999). The Departments of State and Justice have recently reviewed conditions within Nicaragua. The review resulted in a consensus that a 12-month extension is warranted. The reasons for the extension are explained in a State Department memorandum that states: “The conditions which led to the original designation are less severe, but continue to cause substantial disruption to living conditions in Nicaragua.” The memorandum also states that “a significant portion of the U.S. and international aid promised for assisting in reconstruction is still being delivered.”

The State Department memorandum concludes that reconstruction efforts should accelerate during the 2000 calendar year. An Immigration and Naturalization Service memorandum concurs with the State Department, finding that although Nicaragua has made some progress in recovering from Hurricane Mitch, the recovery has been very slow, especially in the areas of housing and infrastructure. For example, the memorandum reports that “[a]ccording to [a] Nicaraguan non-governmental umbrella organization * * * of the tens of thousands of houses destroyed by Mitch, only 2,500 had been replaced a year after the storm struck.”

Based on these recommendations, the Attorney General finds the situation in Nicaragua meets the conditions for extension of TPS under section 244(b)(3)(C) of the Act. 8 U.S.C. 1254a(b)(3)(C). There continues to be a substantial, but temporary, disruption of living conditions in Nicaragua as a result of an environmental disaster, and Nicaragua continues to be unable, temporarily, to handle adequately the return of its nationals. 8 U.S.C. 1254a(b)(1)(B)(i)-(ii). Therefore, the review failed to show that country conditions have improved to a degree that supports termination. Even in cases where conditions have improved, the Act provides for automatic extension in the absence of a determination by the Attorney General that country conditions no longer support a TPS designation. Since the Attorney General did not determine that the conditions in Nicaragua no longer warrant TPS, the designation must be extended.

On the basis of these findings, an extension of the TPS designation for Nicaragua is warranted for an additional 12-month period. 8 U.S.C. 1254a(b)(3)(C).

If I Currently Have TPS, How Do I Register for an Extension?

Only persons previously granted TPS or those with applications pending under the initial Nicaragua designation may apply for an extension by filing a Form I-821, Application for TPS, without the fee, during the re-registration period that begins May 11, 2000 and ends June 12, 2000. Additionally, you must file a Form I-765, Application for Employment Authorization. See the chart below to determine whether you must submit the one-hundred dollar ($100) filing fee with the Form I-765.

Chart 1
If | Then
You are applying for employment authorization through July 5, 2001 | You must complete and file the Form I-765, Application for Employment Authorization, with the one-hundred dollar ($100) fee.
You already have employment authorization or do not require employment authorization | You must complete and file the Form I-765 with no fee.
You are applying for employment authorization and are requesting a fee waiver | You must complete and file Form I-765, a fee waiver request, and the requisite affidavit (and any other information), in accordance with 8 CFR 244.20.

To re-register for TPS, you also must include two identification photographs (1½″ × 1½″).

Is Late Initial Registration Possible?

Yes. In addition to timely re-registration, late initial registration is possible for some persons from Nicaragua under 8 CFR 244.2(f)(2). Late initial registration applicants must meet the following requirements:

• Be a national of Nicaragua (or an alien having no nationality who last habitually resided in Nicaragua);

• Have been continuously physically present in the United States since January 5, 1999;

• Have continuously resided in the United States since December 30, 1998; and

• Be admissible as an immigrant, except as otherwise provided under section 244(c)(2)(A) of the Act, and not ineligible under section 244(c)(2)(B) of the Act.

Additionally, the applicant must be able to demonstrate that, during the initial registration period from January 5, 1999, through July 5, 1999, he or she:

• Was in valid nonimmigrant status, or had been granted voluntary departure status or any relief from removal;

• Had an application for change of status, adjustment of status, asylum, voluntary departure, or any relief from removal pending or subject to further review or appeal;

• Was a parolee or has a pending request for reparole; or

• Was the spouse or child of an alien currently eligible to be a TPS registrant.

8 CFR 244.2(f)(2).

An applicant for late initial registration must register no later than sixty (60) days from the expiration or termination of the qualifying condition. 8 CFR 244.2(g).

Where Should I File for an Extension of TPS?

Persons seeking to register for an extension of TPS must submit an application and accompanying materials to the Immigration and Naturalization Service's service center that has jurisdiction over the applicant's place of residence.

If you live in Connecticut, Delaware, the District of Columbia, Maine, Maryland, Massachusetts, New Hampshire, New Jersey, New York, Pennsylvania, Puerto Rico, Rhode Island, Vermont, Virginia, West Virginia, or in the U.S. Virgin Islands, please mail your application to: Vermont Service Center, Attn: TPS, 75 Lower Welden Street, St. Albans, VT 05479.

If you live in Arizona, California, Guam, Hawaii or Nevada, please mail your application to: California Service Center, Attn: TPS, 24000 Avila Road, 2nd Floor, Laguna Niguel, CA 92677-8111.

If you live in Alabama, Arkansas, Florida, Georgia, Kentucky, Louisiana, Mississippi, New Mexico, North Carolina, Oklahoma, South Carolina, Tennessee, or Texas, please mail your application to: Texas Service Center, P.O. Box 850997, Mesquite, TX 75185-0997.

If you live elsewhere in the United States, please mail your application to: Nebraska Service Center, P.O. Box 87821, Lincoln, NE 68501-7821.

When Can I Register for an Extension of TPS?

The 30-day re-registration period begins May 11, 2000 and will remain in effect until June 12, 2000.

Can I Apply for an Extension of My Work Authorization if I Have Been Granted Employment Authorization on the Basis of My Pending Form I-821, and as of July 5, 2000, My Form I-821 Is Still Pending?

Yes, you can apply for an extension of your employment authorization. Follow the instructions in Chart 1 and submit your application to the service center that has jurisdiction over your place of residence during the 30-day registration period listed above.

How Does an Application for TPS Affect My Application for Asylum or Other Immigration Benefits?

An application for TPS does not preclude or affect an application for asylum or any other immigration benefit. A national of Nicaragua (or alien having no nationality who last habitually resided in Nicaragua) who is otherwise eligible for TPS and has applied for or plans to apply for asylum, but who has not yet been granted asylum or withholding of removal, may also apply for TPS. Denial of an application for asylum or any other immigration benefit does not affect an applicant's ability to register for TPS, although the grounds of denial may also be grounds of denial for TPS. For example, a person who has been convicted of an aggravated felony is not eligible for asylum or TPS.

Does This Extension Allow Nationals of Nicaragua (or Aliens Having No Nationality Who Last Habitually Resided in Nicaragua) Who Entered the United States After December 30, 1998, To File for TPS?

No. This is a notice of an extension of the TPS designation for Nicaragua, not a notice of redesignation of Nicaragua under the TPS program. An extension of TPS does not change the required dates of continuous physical presence and residence in the United States, and does not expand the TPS program to include nationals of Nicaragua (or aliens having no nationality who last habitually resided in Nicaragua) who arrived in the United States after the date of the initial designation, in this case, January 5, 1999, or the date designated for continuous residence, in this case, December 30, 1998.

Notice of Extension of Designation of Nicaragua Under the TPS Program

By the authority vested in me as Attorney General under sections 244(b)(3)(A) and (C), and (b)(1) of the Act, I have consulted with the appropriate agencies of the Government concerning whether the conditions under which Nicaragua was initially designated for TPS continue to exist. As a result, I determine that the conditions for the initial designation of TPS for Nicaragua continue to be met. 8 U.S.C. 1254a(b)(3)(A) and (C), (b)(1). Accordingly, I order as follows:

(1) The designation of Nicaragua under section 244(b) of the Act is extended for an additional 12-month period from July 6, 2000, until July 5, 2001. 8 U.S.C. 1254a(b)(3)(C).

(2) I estimate that there are approximately 6,000 nationals of Nicaragua (or aliens having no nationality who last habitually resided in Nicaragua) who have been granted TPS and who are eligible for re-registration.

(3) In order to be eligible for TPS during the period from July 6, 2000, through July 5, 2001, a national of Nicaragua (or an alien having no nationality who last habitually resided in Nicaragua) who received a grant of TPS (or has an application pending) during the initial period of designation from January 5, 1999, until July 5, 2000, must re-register for TPS by filing a new Application for Temporary Protected Status, Form I-821, along with an Application for Employment Authorization, Form I-765, within the 30-day period beginning May 11, 2000 and ending on June 12, 2000. Late re-registration will be allowed only for good cause pursuant to 8 CFR 244.17(c).

(4) Pursuant to section 244(b)(3)(A) of the Act, the Attorney General will review, at least 60 days before July 5, 2001, the designation of Nicaragua under the TPS program to determine whether the conditions for designation continue to be met. 8 U.S.C. 1254a(b)(3)(A). Notice of that determination, including the reasons underlying it, will be published in the Federal Register.

(5) Information concerning the TPS program for nationals of Nicaragua (or aliens having no nationality who last habitually resided in Nicaragua) will be available at local Service offices upon publication of this notice and on the INS website at http://www.ins.usdoj.gov.

Dated: May 5, 2000.
Janet Reno,
Attorney General.

[FR Doc. 00-11787 Filed 5-10-00; 8:45 am]

BILLING CODE 4410-10-M